Title 3—

The President

Proclamation 10745 of May 2, 2024

Boundary Enlargement of the Berryessa Snow Mountain National Monument

By the President of the United States of America

A Proclamation

Through Proclamation 9298 of July 10, 2015, President Obama established the Berryessa Snow Mountain National Monument (monument) to protect an array of spectacular historic, cultural, geologic, and ecological resources in the heart of northern California's Inner Coast Range. Straddling the eastern edge of the monument boundary, Molok Luyuk—which means “Condor Ridge” in the language of the Patwin people—is a striking 11-mile north-to-south ridgeline that is sacred to the Patwin people and contains a mosaic of historic objects and rare natural communities supported by the unique geologic and hydrologic features of the area. The ridgeline, also known as Walker Ridge, is flanked by chaparral-covered canyons, serpentinite outcroppings, oak and cypress woodlands, and spring-fed meadows. Lands within the Molok Luyuk area show evidence of occupation by Indigenous peoples for more than 10,000 years. The historical significance of Molok Luyuk contributes to its cultural and spiritual significance to the Patwin people, and many other Indigenous peoples from northern California also have ties to the area, including the Pomo, Lake Miwok, Yuki, and Nomlaki. While much of the western slope of the ridge was designated as part of the monument by Proclamation 9298, expanding the monument's eastern boundary to include the full Molok Luyuk area—from the ridgeline to the point where the foothills recede into the flatlands of Bear Valley—will protect additional objects of scientific and historic interest and enable holistic management of a culturally significant landscape.

Since time immemorial, Molok Luyuk has held a deep cultural significance for Tribal Nations of the Patwin people, including the Yocha Dehe Wintun Nation, the Kletsel Dehe Band of Wintun Indians, and the Cachil Dehe Band of Wintun Indians. Their history is connected to Molok Luyuk and their lifeways are intertwined with the features, plants, and wildlife of the expansion area. The name Molok Luyuk recalls a time when condors were a common sight soaring above the ridge, and the Patwin people would often celebrate them with dances and ceremonies. On a clear day, the highest points of Molok Luyuk offer a commanding view of the surrounding rugged and undeveloped landscape, encompassing Mount Shasta to the north, Mount Tamalpais to the southwest, and Sutter Buttes to the east. This viewshed, and particularly the view of the sun rising over Sutter Buttes, is central to the Patwin origin story and connected the Patwin communities that once lived in the hills of Molok Luyuk and beyond with the River Patwin communities that populated Bear Valley, which lies just to the east, before they were displaced by trappers, ranchers, and miners. The expansion area includes sites of historic and ceremonial importance to members of all three Patwin Nations along the ridgeline and around its numerous natural springs.

The area around Molok Luyuk has long contained numerous objects of scientific and historic interest. Molok Luyuk played an important role in providing for the sustenance of the Patwin communities that were once found in the area. Occupants of nearby villages made seasonal forays to the ridge and flanks of Molok Luyuk in search of manzanita berries, clover, gray pine nuts, acorns, bulbs, and tubers, as well as to hunt elk and deer. Evidence of this cultural story marks the landscape today through numerous lithic scatters—sites containing ancient tools, tool fragments, and lithic flakes from tool production and maintenance—found along Molok Luyuk and around the area's cold springs. These scatter sites, which in some cases date back thousands of years, likely represent hunting and gathering camps and sites used by generations of Indigenous people for ceremonial purposes. Artifacts from these sites include obsidian tools made from sources in the region.

Trails once crossed and stretched out from the ridgeline. These trails, which ran atop the ridge and just inside the northern and southern boundaries of the expansion area, are important to the history of how Patwin communities were connected to other Indigenous communities in northern California. For instance, they enabled cultural exchanges among Indigenous people in the region, connected villages, and facilitated access to seasonal camps and ceremonial sites. Knowledge of the trails lives within Patwin oral history and cultural expertise and has been documented in ethnographic studies. Some trails were part of a larger interregional network by which other northern California Indigenous peoples would access Molok Luyuk and the healing hot springs that today lie on private land just to the south of the expansion area.

A tumultuous geologic history underpins the expansion area's diverse ecological communities. The backbone of Molok Luyuk is an ophiolite formed by unusual ultramafic rocks. Serpentinite, as this rock is more commonly known, was originally formed deep within the Earth's mantle and eventually thrust upward through the forces of plate tectonics. The landscape is subtly marked by the smoky gray-green of serpentine rocks and their derivative soils. Rare serpentine soils resulting from eroded serpentinite dominate the ridgeline and eastern flank of Molok Luyuk. These soils have unusually high levels of magnesium and iron and very low levels of nutrients, such as calcium and phosphorus, that are critical for the survival of most plants. This soil chemistry imposed evolutionary pressure resulting in a profusion of unique species and habitats that are inhospitable to non-native species that may dominate elsewhere.

Protecting serpentine soils like those found in the expansion area is essential to the preservation of California's endemic and rare plant life. While serpentine soils occur on less than 1.5 percent of California's land base, they are home to nearly 15 percent of California endemic species and nearly 11 percent of its rare plant taxa. Consistent with this State-wide data, the great majority of special-status plant taxa within the Molok Luyuk area occur primarily on serpentine soils.

Molok Luyuk's diverse topography and geology, which also include sandstone and shale, create the conditions for its 13 distinct plant communities, 9 of which spring from serpentine soils. These habitats include serpentine and non-serpentine chaparral, McNab and Sargent cypress and blue and live oak woodlands, serpentine riparian woodland, native wildflower fields, and serpentine seeps. This diversity of plants and plant communities provided the wide array of foods, tools, and medicines that the Patwin gathered from Molok Luyuk. Nearly 500 native California plant taxa have been identified within the expansion area, including at least 38 different special-status plant taxa. The expansion area also includes suitable habitat for another 30 special-status plants that have been documented in the surrounding area. Numerous studies—particularly those focused on species that grow on serpentine soils—have made use of botanical samples from the expansion area, and protecting these rare and sensitive plants will preserve opportunities for important future botanical research.

Brilliant fields of native wildflowers and bunchgrasses are scattered throughout Molok Luyuk. Springtime brings a kaleidoscopic display of butter-yellow golden fairy lantern, flame-like woolly Indian paintbrush, and brilliant orange starbursts of flame ragwort, all of which are native species that thrive in the area's serpentine meadows. The delicate violet flowers of the Indian Valley brodiaea, a bulbiferous perennial herb that is listed as a State of California endangered species, can also be found tucked into serpentine seeps. Throughout the summer, the small white flowers of the drymary dwarf flax, a Bureau of Land Management (BLM) sensitive species that is endemic to California, are widespread on Molok Luyuk's higher elevation serpentine slopes.

Unusual serpentine wetlands occur along Molok Luyuk, as well as on downslope benches and along Highway 20 near the Colusa-Lake county line. Many of these wetlands are fed by the numerous seeps and springs scattered across the area, which are of critical importance to the area's botanical richness. These include Barrel Springs in the northeastern portion of the expansion area, Cold Spring near the center of the ridgeline, and Til Jones and Eaton Springs in the south, along with numerous other unnamed springs. Protecting these springs, and the wetlands they feed, is critical to preserving the rare and endemic species that thrive within the monument and expansion area—and to preserving opportunities for future scientific study.

Despite substantial fragmentation due to fires in 2008 and 2018, McNab cypress woodland, a California-designated sensitive natural community that is vulnerable at both the global and State scales, dominates portions of the northern, higher elevations. In addition to being a rare and vulnerable natural community of scientific interest, the McNab cypress, for which these woodlands are named, have been used for Patwin ceremonies and medicines for generations and continue to be used today.

A wide variety of mammals, birds, reptiles, and amphibians use or make their homes in Molok Luyuk. More than 80 species of birds have been recorded in the area, including 18 special-status species. Both bald and golden eagles can be observed gliding through the sky above Molok Luyuk. Foothill yellow-legged frogs, a BLM sensitive species, can be found in lower-elevation streams within the expansion area. Members of the oldest free-ranging tule elk herd in California also reside within the expansion area. Tule elk, which are endemic to California, had vanished from the wild until a formerly captive herd was released in 1922 in Colusa County. Other wildlife species that make their homes in Molok Luyuk include black-tail deer, black bear, coyote, bobcat, gopher snake, and western rattlesnake. The slopes of Molok Luyuk provide an avenue for wildlife to move from the lower elevations of Bear Valley to the higher elevation of the ridgeline. Conserving this expansion area will fortify protection for the critical north-south migration corridor provided by the existing monument.

As night falls over Molok Luyuk, other residents of the area emerge. At least 14 species of bats occur in the area, including the western red bat, pallid bat, and Townsend's big-eared bat, each of which is a California Species of Special Concern. The night skies through which they fly are remarkably unmarred by light pollution, which can disturb many species of bats as well as other mammals and birds, and provide increasingly rare and extraordinary stargazing opportunities to those who venture out after sunset.

In light of threats, including impacts from climate change, increased recreational use, and development potential, expanding the boundaries of the Berryessa Snow Mountain National Monument to protect the area described above will preserve a diverse array of natural and scientific resources and cultural and historic legacy sites, ensuring that the scientific and historic values of this area endure for the benefit of all Americans. The expansion area contains numerous objects of historic and scientific interest, and it also provides opportunities for those who seek out places of beauty and botanical wonder, whether through hiking, hunting, scenic driving, camping, wildflower viewing, or lying under a vast expanse of undimmed starry sky.

WHEREAS, section 320301 of title 54, United States Code (the “Antiquities Act”), authorizes the President, in his discretion, to declare by public proclamation historic landmarks, historic and prehistoric structures, and other objects of historic or scientific interest that are situated upon the lands owned or controlled by the Federal Government to be national monuments, and to reserve as a part thereof parcels of land, the limits of which shall be confined to the smallest area compatible with the proper care and management of the objects to be protected; and

WHEREAS, I find that each of the objects identified above, and objects of the type identified above within the area described herein, are objects of historic or scientific interest in need of protection under section 320301 of title 54, United States Code, regardless of whether they are expressly identified as an object of historic or scientific interest in the text of this proclamation; and

WHEREAS, I find that there are threats to the objects identified in this proclamation, and in the absence of a reservation under the Antiquities Act, the objects identified in this proclamation are not adequately protected by applicable law or administrative designations, thus making a national monument designation and reservation necessary to protect the objects of historic and scientific interest identified above for current and future generations; and

WHEREAS, I find that the boundaries of the monument reserved by this proclamation represent the smallest area compatible with the proper care and management of the objects of scientific or historic interest identified above, as required by the Antiquities Act; and

WHEREAS, it is in the public interest to ensure the preservation, restoration, and protection of the objects of scientific and historic interest identified above;

NOW, THEREFORE, I, JOSEPH R. BIDEN JR., President of the United States of America, by the authority vested in me by section 320301 of title 54, United States Code, hereby proclaim the objects identified above that are situated upon lands and interests in lands owned or controlled by the Federal Government to be part of the Berryessa Snow Mountain National Monument and, for the purpose of protecting those objects, reserve as part thereof all lands and interests in lands that are owned or controlled by the Federal Government within the boundaries described on the accompanying map, which is attached hereto and forms a part of this proclamation. The reserved Federal lands and interests in lands within the expansion area encompass approximately 13,696 acres. As a result of the distribution of the objects throughout the area, the boundaries described on the accompanying map are confined to the smallest area compatible with the proper care and management of the objects of historic or scientific interest identified above.

Nothing in this proclamation shall change the management of the areas protected under Proclamation 9298. The terms, conditions, and management direction provided by Proclamation 9298, including any term limiting the construction or effect of Proclamation 9298, are incorporated by reference and shall apply to the area reserved by this proclamation except to the extent that they are inconsistent with a provision in this proclamation.

All Federal lands and interests in lands described on the accompanying map are hereby appropriated and withdrawn from all forms of entry, location, selection, sale, or other disposition under the public land laws; from location, entry, and patent under the mining laws; and from disposition under all laws relating to mineral and geothermal leasing, other than by exchange that facilitates the remediation, monitoring, or reclamation of historic mining operations under applicable law or otherwise furthers the protective purposes of the monument.

The enlargement of the boundary is subject to valid existing rights. If the Federal Government subsequently acquires any lands or interests in lands not currently owned or controlled by the Federal Government within the boundaries described on the accompanying map, such lands and interests in lands shall be reserved as a part of the monument, and objects of the type identified above that are situated upon those lands and interests in lands shall be part of the monument, upon acquisition of ownership or control by the Federal Government.

The Secretary of the Interior (Secretary), through the BLM, shall manage the expansion area pursuant to applicable legal authorities, as a unit of the National Landscape Conservation System, and in accordance with the terms, conditions, and management direction provided by this proclamation and, as described above, those provided by Proclamation 9298.

For purposes of protecting and restoring the objects identified above, the Secretary shall include the lands within the expansion area in the management plan for the monument provided for in Proclamation 9298. The Secretary shall promulgate such rules and regulations for the management of the expansion area as deemed appropriate.

Consistent with the direction in Proclamation 9298, in recognition of the importance of Tribal participation in the care and management of the objects identified above, and to ensure that management decisions are informed by and reflect Tribal expertise and Indigenous Knowledge, the Secretary shall explore entering into one or more memoranda of understanding with interested Tribal Nations to set forth terms, pursuant to applicable laws, regulations, and policies, for co-stewardship of the expansion area, as well as for educational and other outreach efforts regarding the history of the Tribal Nations in the area and the name Molok Luyuk.

In order to reflect the historic, spiritual, and cultural significance of Molok Luyuk to the Patwin Tribes as discussed throughout this proclamation, the geographic feature identified in the Federal Geographic Names Information System as Feature 237183 shall be renamed Molok Luyuk. The Secretary and the Board of Geographic Names shall take any necessary and appropriate steps to make this change in the Geographic Names Information System. Except as necessary for the care and management of the objects identified above, no new rights-of-way shall be authorized within the area reserved by this proclamation.

The Secretary shall issue a travel management plan that authorizes motorized and non-motorized mechanized vehicle use, including mountain biking, so long as such use is consistent with the care and management of the objects identified above. Further, the Secretary shall monitor motorized and non-motorized mechanized vehicle use and designated roads and trails to ensure proper care and management of the objects identified above.

The Secretary shall evaluate opportunities to enter into one or more agreements with governments, including State, local, and Tribal, regarding protection of the objects identified above during wildland fire prevention and response efforts.

If any provision of this proclamation, including its application to a particular parcel of land, is held to be invalid, the remainder of this proclamation and its application to other parcels of land shall not be affected thereby.

Nothing in this proclamation shall be deemed to revoke any existing withdrawal, reservation, or appropriation; however, the monument shall be the dominant reservation.

Warning is hereby given to all unauthorized persons not to appropriate, injure, destroy, or remove any feature of the monument and not to locate or settle upon any of the lands thereof.

IN WITNESS WHEREOF, I have hereunto set my hand this second day of May, in the year of our Lord two thousand twenty-four, and of the Independence of the United States of America the two hundred and forty-eighth.

Billing code 3395-F4-P

[FR Doc. 2024-10266

Filed 5-8-24; 8:45 am]

Billing code 4310-10-C